DEPARTMENT OF HEALTH AND HUMAN SERVICES

Centers for Medicare & Medicaid Services

42 CFR Part 493

Laboratory Requirements

CFR Correction

In Title 42 of the Code of Federal Regulations, Part 430 to End, revised as of October 1, 2003, on page 1027, in § 493.945, in the table in paragraph (b)(3)(ii)(C), the entry in row D, column B is corrected to read −5.

[FR Doc. 04-55517 Filed 9-27-04; 8:45 am]

BILLING CODE 1505-01-D